DEPARTMENT OF HOMELAND SECURITY

Coast Guard

33 CFR Part 117

[CGD08-03-013]

Drawbridge Operation Regulations; Bayou LaLoutre, Ycloskey, LA

AGENCY: Coast Guard, DHS.

ACTION: Notice of temporary deviation from regulations.

SUMMARY: The Commander, Eighth Coast Guard District, has issued a temporary deviation from the regulation governing the operation of the Ycloskey Vertical Lift Span Highway Bridge across Bayou LaLoutre, mile 22.9, at Ycloskey, St. Bernard Parish, LA. This deviation allows the bridge to remain closed to navigation from May 6, 2003, through May 8, 2003. The deviation is necessary to conduct scheduled maintenance to the drawbridge.

DATES: This deviation is effective from 9 a.m. on May 6, 2003, through 3 p.m. on May 8, 2003.

ADDRESSES: Materials referred to in this document are available for inspection or copying at the office of the Eighth Coast Guard District, Bridge Administration Branch, Hale Boggs Federal Building, room 1313, 501 Magazine Street, New Orleans, Louisiana 70130-3396 between 7 a.m. and 3 p.m., Monday through Friday, except Federal holidays. The telephone number is (504) 589-2965. The Bridge Administration Branch of the Eighth Coast Guard District maintains the public docket for this temporary deviation.

FOR FURTHER INFORMATION CONTACT: Kay Wade, Bridge Administration Branch, telephone (504) 589-2965.

SUPPLEMENTARY INFORMATION: The Louisiana Department of Transportation and Development has requested a temporary deviation in order to repair two clutches and damaged electrical circuits of the vertical lift span bridge across Bayou LaLoutre at mile 22.9 at Ycloskey, St. Bernard Parish, Louisiana. This maintenance is essential for the continued safe operation of the bridge. This temporary deviation will allow the bridge to remain in the closed-to-navigation position from 9 a.m. on Tuesday, May 6, 2003, through 3 p.m. on Thursday, May 8, 2003.

The vertical lift span bridge has a vertical clearance of 2.5 feet above mean high water, elevation 3.0 feet Mean Sea Level and 4.5 feet above mean low water, elevation 1.0 Mean Sea Level in the closed-to-navigation position. Navigation at the site of the bridge consists mostly of fishing, shrimp and trawl boats. This three day closure will not have a significant effect on these vessels. This closure has been scheduled so as to have the least impact on navigation by scheduling the work in the middle of the week for recreational boaters and outside the trawling season for commercial fishermen. The bridge normally opens to pass navigation an average of 700 times per month during the trawling off-season. In accordance with 33 CFR 117.5, the draw of the bridge opens on signal. The bridge will not be able to open for emergencies during the closure period. No alternate routes are available.

In accordance with 33 CFR 117.35(c), this work will be performed with all due speed in order to return the bridge to normal operation as soon as possible. This deviation from the operating regulations is authorized under 33 CFR 117.35.

Dated: April 4, 2003.
Marcus Redford,
Bridge Administrator.

[FR Doc. 03-9082 Filed 4-14-03; 8:45 am]

BILLING CODE 4910-15-P